DEPARTMENT OF ENERGY

Federal Energy Regulatory Commission

[Docket No. EL02-4-000]

American National Power, Inc. v. KeySpan Generation, Inc., Long Island Power Authority, and Long Island Lighting Company d/b/a/ LIPA.; Notice of Complaint

October 12, 2001.

Take notice that on October 11, 2001, American National Power, Inc. filed its Complaint Requesting Fast Track Processing with the Federal Energy Regulatory Commission. In its Complaint, American National Power, Inc. requests that the Commission find certain provisions of Rate Schedule No. 1 of KeySpan Generation, Inc. to be unjust and unreasonable because those contract provisions have caused the Long Island Power Authority to engage in anticompetitive conduct directed at American National Power, Inc. and other developers of new generation on Long Island. The relief requested by American National Power, Inc. in its Complaint includes the reformation of these anticompetitive contract provisions.

American National Power, Inc. has requested Fast Track Processing of its Complaint pursuant to Section 206(h) of the Commission's Rules of Practice and Procedure, 18 CFR 385.206(h).

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 31, 2001. Protests will be considered by the Commission in determining the appropriate action to be taken, but will not serve to make protestants parties to the proceeding. Any person wishing to become a party must file a motion to intervene. Answers to the complaint shall also be due on or before October 31, 2001. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26253 Filed 10-17-01; 8:45 am]

BILLING CODE 6717-01-P